DEPARTMENT OF ENERGY

Federal Energy Regulatory Commission

Combined Notice of Filings # 1

May 22, 2006.

Take notice that the Commission received the following electric rate filings.

Docket Numbers: ER98-4515-008.

Applicants: Cadillac Renewable Energy LLC.

Description: Cadillac Renewable Energy, LLC submits a notification of a non-material change in status related to market rate authority in compliance with the reporting requirements of order 652.

Filed Date: May 4, 2006.

Accession Number: 20060517-0026.

Comment Date: 5 p.m. Eastern Time on Tuesday, May 30, 2006.

Docket Numbers: ER01-316-020.

Applicants: ISO New England Inc.

Description: ISO New England, Inc submits its Index of Customers for the first quarter of 2006 in response to the Commission's letter order issued June 1, 2001.

Filed Date: May 1, 2006.

Accession Number: 20060517-0024.

Comment Date: 5 p.m. Eastern Time on Tuesday, May 30, 2006.

Docket Numbers: ER04-230-024; ER01-3155-016; ER01-1385-025; EL01-45-024.

Applicants: New York Independent System Operator, Inc.

Description: New York Independent System Operator, Inc. submits its Seventh Quarterly Report.

Filed Date: May 9, 2006.

Accession Number: 20060509-5024.

Comment Date: 5 p.m. Eastern Time on Tuesday, May 30, 2006.

Docket Numbers: ER05-515-002.

Applicants: Atlantic City Electric Company.

Description: Atlantic City Electric Company submits its 2006 Formula Rate Annual Update pursuant to Settlement Agreement issued April 19, 2006.

Filed Date: May 15, 2006.

Accession Number: 20060515-5005.

Comment Date: 5 p.m. Eastern Time on Monday, June 5, 2006.

Docket Numbers: ER05-515-003.

Applicants: Delmarva Power & Light Company.

Description: Delmarva Power & Light Company submits its 2006 Formula Rate Annual Update pursuant to Settlement Agreement issued April 19, 2006.

Filed Date: May 15, 2006.

Accession Number: 20060515-5007.

Comment Date: 5 p.m. Eastern Time on Monday, June 5, 2006.

Docket Numbers: ER05-515-004.

Applicants: Baltimore Gas and Electric Company.

Description: Baltimore Gas and Electric Company submits its 2006 Formula Rate Annual Update pursuant to Settlement Agreement issued April 19, 2006.

Filed Date: May 15, 2006.

Accession Number: 20060515-5037.

Comment Date: 5 p.m. Eastern Time on Monday, June 5, 2006.

Docket Numbers: ER05-515-006.

Applicants: Potomac Electric Power Company.

Description: Potomac Electric Power Company submits its 2006 Formula Rate Annual Update pursuant to Settlement Agreement issued April 19, 2006.

Filed Date: May 15, 2006.

Accession Number: 20060515-5009.

Comment Date: 5 p.m. Eastern Time on Monday, June 5, 2006.

Docket Numbers: ER05-636-004.

Applicants: Midwest Independent Transmission System Operator, Inc.

Description: Midwest Independent Transmission System Operator Inc submits its Large Generator Interconnection Agreement among itself, Columbia Community Windpower LLC and American Transmission Company, LLC.

Filed Date: May 8, 2006.

Accession Number: 20060517-0017.

Comment Date: 5 p.m. Eastern Time on Tuesday, May 30, 2006.

Docket Numbers: ER05-652-006; RT04-1-021; ER05-109-005; ER04-48-021.

Applicants: Southwest Power Pool, Inc.

Description: Southwest Power Pool, Inc submits its compliance filing providing for a revision to its Open Access Transmission Tariff.

Filed Date: May 8, 2006.

Accession Number: 20060517-0016.

Comment Date: 5 p.m. Eastern Time on Tuesday, May 30, 2006.

Docket Numbers: ER05-1352-003; RT04-1-020; ER04-48-020.

Applicants: Southwest Power Pool, Inc.

Description: Southwest Power Pool, Inc submits its compliance filing revising its Bylaws to establish a process for providing waivers of annual membership fees.

Filed Date: May 5, 2006.

Accession Number: 20060517-0018.

Comment Date: 5 p.m. Eastern Time on Tuesday, May 30, 2006.

Docket Numbers: ER06-477-001.

Applicants: Aquila Networks, L&P, Aquila, Inc.

Description: Aquila, Inc dba Aquila Networks, L&P submits a redesignated Facilities Modifications and Construction Agreement for Cooper South Flowgate Upgrades pursuant to FERC's March 7, 2006order.

Filed Date: May 8, 2006.

Accession Number: 20060517-0023.

Comment Date: 5 p.m. Eastern Time on Tuesday, May 30, 2006.

Docket Numbers: ER06-933-001.

Applicants: ZZ Corporation.

Description: ZZ Corporation submits its petition for acceptance of initial tariff (FERC Electric Tariff, Original Volume 1), waivers and blanket authority.

Filed Date: May 10, 2006.

Accession Number: 20060517-0029.

Comment Date: 5 p.m. Eastern Time on Wednesday, May 31, 2006.

Docket Numbers: ER06-989-000.

Applicants: American Electric Power Service Corp.

Description: American Electric Power Service Corp as agent for Ohio Power Co and Columbus Southern Power Company submit their fourth revision to the Interconnection & Local delivery Agreement with Buckeye Power, Inc.

Filed Date: May 10, 2006.

Accession Number: 20060517-0030.

Comment Date: 5 p.m. Eastern Time on Wednesday, May 31, 2006.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E6-8323 Filed 5-30-06; 8:45 am]

BILLING CODE 6717-01-P